SMALL BUSINESS ADMINISTRATION

[Applicant No. 99000418]

Bluestem Capital Partners III Limited Partnership; Notice Seeking Exemption Under Section 312 of the Small Business Investment Act, Conflicts of Interest

Notice is hereby given that Bluestem Capital Partners III Limited Partnership ( “Bluestem III” ), 122 S Phillips Ave., Suite 300, Sioux Falls, South Dakota, 57104, an applicant for a Federal License under the Small Business Investment Act of 1958, as amended (“the Act”), in connection with the financing of a small concern, has sought an exemption under section 312 of the Act and Section 107.730, Financings which Constitute Conflicts of Interest of the Small Business Administration (“SBA”) rules and regulations (13 CFR 107.730 (2000)). Bluestem III proposes to provide equity financing to Hat World Corporation, 8142 Woodland Drive, Indianapolis, IN 46078. The financing is contemplated for the purpose of providing capital to Hat World Corporation to fund the acquisition of various assets from the Lids' bankruptcy trustee.

The financing is brought within the purview of § 107.730(a)(1) of the SBA Regulations because Bluestem Capital Partners I, LLC and Bluestem Capital Partners II Limited Partnership, both Associates of Bluestem III, each currently own greater than 10 percent of Hat World Corporation, and therefore, Hat World Corporation is considered an Associate of Bluestem III as defined in § 107.50 of the SBA Regulations.

Notice is hereby given that any interested person may submit written comments on the transaction to the Associate Administrator for Investment, U.S. Small Business Administration, 409 Third Street, SW., Washington, DC 20416.

Dated: June 12, 2001.
Harry Haskins,
Acting Associate Administrator for Investment.

[FR Doc. 01-15643 Filed 6-20-01; 8:45 am]

BILLING CODE 8010-01-M